DEPARTMENT OF DEFENSE

Department of the Army; Corps of Engineers

Notice of Availability of the Record of Decision for the Final Environmental Impact Statement for the Brazos River Harbor Navigation District's (Port Freeport) Proposed Widening of the Freeport Harbor Ship Channel

AGENCY: Department of the Army, U.S. Army Corps of Engineers, DOD.

ACTION: Notice of availability.

SUMMARY: The U.S. Army Corps of Engineers, Galveston District announces the availability of the Record of Decision (ROD), for the Final Environmental Impact Statement (FEIS) for the Port Freeport's proposal to widen the Freeport Harbor Ship Channel. The FEIS was made available for public review and comment on January 11, 2008. Comments received during the FEIS comment period are addressed in the ROD. The ROD discloses the decision to issue a Department of the Army permit for the proposed project.

DATES: The waiting period for the FEIS ended February 11, 2008. The ROD was signed on February 3, 2009.

ADDRESSES: Questions about this action may be addressed to the USACE, Galveston District, Attn: Sam J. Watson, P.O. Box 1229, Galveston, TX 77553-1229; or by calling 409-766-3946.

SUPPLEMENTARY INFORMATION: Authority: This Federal Action is in consideration of a Department of the Army Permit application for work under Section 10 of the Rivers and Harbors Act of 1899 (33 U.S.C. 403), Section 404 of the Clean Water Act (33 U.S.C. 1344) and Section 103 of the Marine Protection and Sanctuaries Act (MPRSA) (33 U.S.C. 1413).

Background: In April 2005, Port of Freeport submitted a Department of Army Permit Application to widen portions of the Freeport Harbor Jetty Channel and all of the Freeport Harbor Entrance Channel from 400 feet (ft) to 600 ft. It was determined that an Environmental Impact Statement would be required for the proposed project. Since the November 29, 2005 Scoping Meeting, the consulting firm of PBS&J, under the direction of the Galveston District, U.S. Army Corps of Engineers (USACE), prepared an Environmental Impact Statement for the proposed project. The ROD is now available to the public.

Availability of the ROD: The ROD for the proposed Freeport Channel Widening project is being made available to Federal, State, and local agencies and all interested parties. The ROD can be viewed or downloaded at: http://www.swg.usace.army.mil/reg/.

Location: The project is located in the Freeport Harbor Channel, Brazoria County, TX. Specifically, the project site is located along the northern edge of the Freeport Harbor Jetty and Entrance Channels, between the towns of Surfside and Quintana, TX. The project can be located on the U.S. Geological Survey quadrangle map entitled Freeport, TX. Approximate UTM Coordinates: NAD 83, UTM 14N, 861095.730029, 3206475.762543.

Project Description: The project includes widening the Freeport Harbor Jetty Channel beginning at Channel Station 63+35 with a gradual widening, at the authorized depth, up to an additional 150 feet (ft) for about 1,835 ft to Channel Station 45+00. From that point to Channel Station 40+00 the widening would be less gradual from the additional 150 ft to an additional 200 ft. Through the rest of the Jetty Channel and to the end of the Freeport Harbor Entrance Channel (Channel Station −260+00), the channel would be widened an additional 200 ft. The length of channel proposed for widening is about 6.1 miles, of which 5.7 miles would be widened by 200 ft. The project depth will remain at the authorized depth of 45 ft in the Jetty Channel and 47 ft in the Entrance Channel. The widening would generate approximately 3.2 million cubic yards (mcy) of new work dredged material. Approximately 2.9 mcy of the new work material would consist of clay material and about 300,000 cubic yards (cy) would consist of silty/sand material. The ocean dredged material disposal sites (ODMDS) previously designated for the existing Freeport Harbor Ship Channel, would be used for placement of the 2.9 mcy of clay/silt material and maintenance material. The 300,000 cy of silty/sand material would be used beneficially and placed on Quintana Beach in front of the Seaway upland confined placement area.

Brenda S. Bowen,
Army Federal Register Liaison Officer.

[FR Doc. E9-4197 Filed 2-26-09; 8:45 am]

BILLING CODE 3720-58-P